DEPARTMENT OF ENERGY

Federal Energy Regulatory Commission

[Project No. 12562-001]

Warmsprings Irrigation District; Notice of Preliminary Permit Application Accepted for Filing and Soliciting Comment, Motions To Intervene, and Competing Applications

November 5, 2008.

Warmsprings Irrigation District filed an application on March 3, 2008, pursuant to section 4(f) of the Federal Power Act, proposing to study the feasibility of 2.5-megawatt (MW) Warmsprings Dam Hydroelectric Project. The project would be located on the Malheur River, in Malheur County, Oregon, on U.S. Bureau of Reclamation lands. The proposed project would utilize federal lands.

The proposed Warmsprings Dam Hydroelectric Project would use the U.S. Bureau of Reclamation' Warmsprings Dam and would consist of: (1) A proposed intake structure; (2) a proposed 100-foot-long, 5-foot-diameter steel penstock; (3) a proposed powerhouse containing one generating unit having a total installed capacity of 2.5 MW; (4) a proposed 100-foot-long, 15-kV transmission line; and (5) appurtenant facilities.

Applicant Contact: Mr. Brent Smith, Chief Operating Officer, Symbiotics, LLC., P.O. Box 535, Rigby, Idaho 83442; phone: (208) 745-0834. FERC Contact: Tom Papsidero, 202-502-6002.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-12562-001) in the docket number field to access the document. For assistance, call toll-free 1-866-208-3372.

Kimberly D. Bose,
Secretary.

[FR Doc. E8-26896 Filed 11-12-08; 8:45 am]

BILLING CODE 6717-01-P